DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: February 23, 2018.
Roy E. Wright,
Deputy Associate Administrator for Insurance and Mitigation, Department of Homeland Security, Federal Emergency Management Agency.

State and county | Location and case No. | Chief executive officer of community | Community map repository | Date of modification | Community No.
Alabama: Greene (FEMA Docket No: B-1762) | Unincorporated areas of Greene County (17-04-5766P) | The Honorable Tennyson Smith, Chairman, Greene County Board of Commissioners, PO Box 628, Eutaw, AL 35462 | Greene County Engineering Department, 521 Prairie Avenue, South, Eutaw, AL 35462 | Jan 25, 2018 | 010091
Arkansas:
Benton (FEMA Docket No: B-1767) | City of Centerton (17-06-1281P) | The Honorable Bill Edwards, Mayor, City of Centerton, PO Box 208, Centerton, AR 72719 | City Hall, 290 Main Street, Centerton, AR 72719 | Jan 29, 2018 | 050399
Benton (FEMA Docket No: B-1767) | Unincorporated areas of Benton County (17-06-1281P) | The Honorable Barry Moehring, Benton County Judge, 215 East Central Avenue, Bentonville, AR 72712 | Benton County Development and Building Department, 905 Northwest 8th Street, Bentonville, AR 72712 | Jan 29, 2018 | 050419
Colorado: Arapahoe (FEMA Docket No: B-1762) | City of Aurora (17-08-0697P) | Mr George Noe, Manager, City of Aurora, 15151 East Alameda Parkway, 5th Floor, Aurora, CO 80012 | Municipal Center, 15151 East Alameda Parkway, 3rd Floor, Aurora, CO 80012 | Feb 2, 2018 | 080002
Connecticut: Fairfield (FEMA Docket No: B-1762) | Town of Westport (17-01-0033P) | The Honorable Jim Marpe, First Selectman, Town of Westport Board of Selectmen, 110 Myrtle Avenue, Room 310, Westport, CT 06880 | Planning and Zoning Department, 110 Myrtle Avenue, Room 203, Westport, CT 06880 | Jan 8, 2018 | 090019
Florida:
Duval (FEMA Docket No: B-1762) | City of Jacksonville (17-04-1816P) | The Honorable Lenny Curry, Mayor, City of Jacksonville, 117 West Duval Street, Suite 400, Jacksonville, FL 32202 | Development Services Division, 214 North Hogan Street, Suite 2100, Jacksonville, FL 32202 | Jan 30, 2018 | 120077
Lee (FEMA Docket No: B-1762) | City of Sanibel (17-04-4409P) | The Honorable Kevin Ruane, Mayor, City of Sanibel, 800 Dunlop Road, Sanibel, FL 33957 | Planning and Code Enforcement Department, 800 Dunlop Road, Sanibel, FL 33957 | Jan 17, 2018 | 120402
Manatee (FEMA Docket No: B-1758) | Unincorporated areas of Manatee County (17-04-1580P) | The Honorable Betsy Benac, Chair, Manatee County Board of Commissioners, PO Box 1000, Bradenton, FL 34206 | Manatee County Building and Development Services Department, 1112 Manatee Avenue West, Bradenton, FL 34205 | Jan 8, 2018 | 120153
Palm Beach (FEMA Docket No: B-1762) | Village of Tequesta (17-04-2100P) | The Honorable Abby Brennan, Mayor, Village of Tequesta, 345 Tequesta Drive, Tequesta, FL 33469 | Building Department, 345 Tequesta Drive, Tequesta, FL 33469 | Jan 11, 2018 | 120228
Pinellas (FEMA Docket No: B-1762) | Town of Redington Shores (17-04-6065P) | The Honorable Bert Adams, Mayor, Town of Redington Shores, 17425 Gulf Boulevard, Redington Shores, FL 33708 | Building Department, 17425 Gulf Boulevard, Redington Shores, FL 33708 | Feb 5, 2018 | 125141
Sarasota (FEMA Docket No: B-1762) | City of Sarasota (17-04-2771P) | The Honorable Shelli Freeland Eddie, Mayor, City of Sarasota, 1565 1st Street, Room 101, Sarasota, FL 34236 | Neighborhood and Development Services Department, 1565 1st Street, Sarasota, FL 34236 | Jan 25, 2018 | 125150
Sarasota (FEMA Docket No: B-1762) | City of Sarasota (17-04-5953P) | The Honorable Shelli Freeland Eddie, Mayor, City of Sarasota, 1565 1st Street, Room 101, Sarasota, FL 34236 | Neighborhood and Development Services Department, 1565 1st Street, Sarasota, FL 34236 | Jan 24, 2018 | 125150
Massachusetts:
Barnstable (FEMA Docket No: B-1762) | Town of Mashpee (17-01-1864P) | The Honorable Thomas F O'Hara, Chairman, Town of Mashpee Board of Selectmen, 16 Great Neck Road, North, Mashpee, MA 02649 | Building Department, 16 Great Neck Road North, Mashpee, MA 02649 | Feb 5, 2018 | 250009
Bristol (FEMA Docket No: B-1762) | Town of Dartmouth (17-01-1797P) | The Honorable Frank S Gracie III, Chairman, Town of Dartmouth Board of, Selectmen, 400 Slocum Road, Dartmouth, MA 02747 | Building Department, 400 Slocum Road, Dartmouth, MA 02747 | Jan 25, 2018 | 250051
Mississippi:
DeSoto (FEMA Docket No: B-1762) | City of Hernando (17-04-4941P) | The Honorable Tom Ferguson, Mayor, City of Hernando, 475 West Commerce Street, Hernando, MS 38632 | Planning Department, 475 West Commerce Street, Hernando, MS 38632 | Jan 24, 2018 | 280292
DeSoto (FEMA Docket No: B-1762) | Unincorporated areas of DeSoto County (17-04-5325P) | The Honorable Michael Lee, President, DeSoto County Board of Supervisors, 365 Losher Street, Suite 300, Hernando, MS 38632 | DeSoto County Administration Building, 365 Losher Street, Suite 200, Hernando, MS 38632 | Jan 26, 2018 | 280050
Montana:
Lewis and Clark (FEMA Docket No: B-1762) | Unincorporated areas of Lewis and Clark County (17-08-0367P) | The Honorable Susan Good Geise, Chair, Lewis and Clark County Board of Commissioners, 316 North Park Avenue, Room 345, Helena, MT 59623 | Lewis and Clark County, Law Enforcement Center, 221 Breckenridge Avenue, Helena, MT 59601 | Jan 26, 2018 | 300038
Powell (FEMA Docket No: B-1767) | City of Deer Lodge (17-08-0193P) | The Honorable Zane Cozby, Mayor, City of Deer Lodge, 300 Main Street, Deer Lodge, MT 59722 | City Hall, 300 Main Street, Deer Lodge, MT 59722 | Feb 1, 2018 | 300060
Powell (FEMA Docket No: B-1767) | Unincorporated areas of Powell County (17-08-0193P) | The Honorable Daniel Sager, Chairman, Powell County Board of Commissioners, 409 Missouri Avenue, Suite 202, Deer Lodge, MT 59722 | Powell County Planning Department, 409 Missouri Avenue, Suite 202, Deer Lodge, MT 59722 | Feb 1, 2018 | 300059
New Mexico: Bernalillo (FEMA Docket No: B-1762) | City of Albuquerque (17-06-1859P) | The Honorable Richard J Berry, Mayor, City of Albuquerque, PO Box 1293, Albuquerque, NM 87103 | Development Review Services Division, 600 2nd Street Northwest, Albuquerque, NM 87102 | Jan 10, 2018 | 350002
North Carolina: Wake (FEMA Docket No: B-1762) | City of Raleigh (16-04-2708P) | The Honorable Nancy McFarlane, Mayor, City of Raleigh, PO Box 590, Raleigh, NC 27602 | Stormwater Management Division, 1 Exchange Plaza, Suite 304, Raleigh, NC 27601 | Jan 29, 2018 | 370243
North Dakota: Cass (FEMA Docket No: B-1762) | City of Casselton (17-08-0564P) | The Honorable Lee Anderson, Mayor, City of Casselton, PO Box 548, Casselton, ND 58012 | Auditor's Office, 702 1st Street North, Casselton, ND 58012 | Jan 25, 2018 | 380020
Oklahoma: Oklahoma (FEMA Docket No: B-1762) | City of Oklahoma City (17-06-2212P) | The Honorable Mick Cornett, Mayor, City of Oklahoma City, 200 North Walker Avenue, 3rd Floor, Oklahoma City, OK 73102 | Department of Public Works, 420 West Main Street, Suite 700, Oklahoma City, OK 73102 | Feb 5, 2018 | 405378
South Carolina:
Horry (FEMA Docket No: B-1762) | City of North Myrtle Beach (17-04-2716P) | The Honorable Marilyn Hatley, Mayor, City of North Myrtle Beach, 1018 2nd Avenue South, North Myrtle Beach, SC 29582 | Planning and Development Department, 1018 2nd Avenue, South, North Myrtle Beach, SC 29582 | Jan 18, 2018 | 450110
Richland (FEMA Docket No: B-1762) | City of Forest Acres (17-04-4597P) | The Honorable Frank Brunson, Mayor, City of Forest Acres, 5209 North Trenholm Road, Columbia, SC 29206 | City Hall, 5209 North Trenholm Road, Columbia, SC 29206 | Jan 23, 2018 | 450174
Richland (FEMA Docket No: B-1762) | Town of Arcadia Lakes (17-04-4597P) | The Honorable Mark Huguley, Mayor, Town of Arcadia Lakes, 6740 North Trenholm Road, Columbia, SC 29206 | Town Hall, 6911 North Trenholm Road, Suite 2, Columbia, SC 29206 | Jan 23, 2018 | 450171
Richland (FEMA Docket No: B-1762) | Unincorporated areas Richland County (17-04-4597P) | The Honorable Joyce Dickerson, Chair, Richland County Council, 2020 Hampton Street, Columbia, SC 29204 | Richland County Development Services Department, 2020 Hampton Street, Columbia, SC 29204 | Jan 23, 2018 | 450170
South Dakota: Meade (FEMA Docket No: B-1762) | City of Sturgis (17-08-0491P) | Mr Daniel Ainslie, Manager, City of Sturgis, 1040 Harley-Davidson Way, Sturgis, SD 57785 | Engineering Department, 1040 Harley-Davidson Way, Sturgis, SD 57785 | Jan 25, 2018 | 460055
Texas:
Burnet (FEMA Docket No: B-1762) | Unincorporated areas of Burnet County (17-06-3660X) | The Honorable James Oakley, Burnet County Judge, 220 South Pierce Street, Burnet, TX 78611 | Burnet County Environmental Services Department, 133 East Jackson Street, Room 107, Burnet, TX 78611 | Jan 25, 2018 | 481209
Collin (FEMA Docket No: B-1762) | Town of Prosper (17-06-1400P) | The Honorable Ray Smith, Mayor, Town of Prosper, PO Box 307, Prosper, TX 75078 | Engineering Services Department, 407 East 1st Street, Prosper, TX 75078 | Jan 16, 2018 | 480141
Collin (FEMA Docket No: B-1762) | Town of Prosper (17-06-1828P) | The Honorable Ray Smith, Mayor, Town of Prosper, PO Box 307, Prosper, TX 75078 | Engineering Services Department, 407 East 1st Street, Prosper, TX 75078 | Jan 18, 2018 | 480141
Collin and Denton (FEMA Docket No: B-1762) | City of Celina (17-06-1400P) | The Honorable Sean Terry, Mayor, City of Celina, 142 North Ohio Street, Celina, TX 75009 | City Hall, 142 North Ohio Street, Celina, TX 75009 | Jan 16, 2018 | 480133
El Paso (FEMA Docket No: B-1762) | Unincorporated areas of El Paso County (17-06-1021P) | The Honorable Veronica Escobar, El Paso County Judge, 500 East San Antonio Street, Suite 301, El Paso, TX 79901 | El Paso County Public Works Department, 800 East Overland Avenue, Suite 407, El Paso, TX 79901 | Jan 22, 2018 | 480212
McLennan (FEMA Docket No: B-1767) | City of Robinson (17-06-1462P) | The Honorable Bert Echterling, Mayor, City of Robinson, 111 West Lyndale Drive, Robinson, TX 76706 | City Hall, 111 West Lyndale Drive, Robinson, TX 76706 | Feb 5, 2018 | 480460
Tarrant (FEMA Docket No: B-1762) | City of Fort Worth (17-06-2839P) | The Honorable Betsy Price, Mayor, City of Fort Worth, 200 Texas Street, Fort Worth, TX 76102 | Transportation and Public Works Department, 200 Texas Street, Fort Worth, TX 76102 | Jan 29, 2018 | 480596
Tarrant (FEMA Docket No: B-1762) | City of Grand Prairie (17-06-2864P) | The Honorable Ron Jensen, Mayor, City of Grand Prairie, PO Box 534045, Grand Prairie, TX 75053 | Development Center, 206 West Church Street, Grand Prairie, TX 75050 | Jan 25, 2018 | 485472
Tarrant (FEMA Docket No: B-1762) | City of Saginaw (17-06-1745P) | The Honorable Todd Flippo, Mayor, City of Saginaw, 333 West McLeroy Boulevard, Saginaw, TX 76179 | City Hall, 333 West McLeroy Boulevard, Saginaw, TX 76179 | Jan 25, 2018 | 480610
Williamson (FEMA Docket No: B-1762) | Unincorporated areas of Williamson County (17-06-3660X) | The Honorable Dan A Gattis, Williamson County Judge, 710 South Main Street, Suite 101, Georgetown, TX 78626 | Williamson County Department of Infrastructure, 3151 Southeast Inner Loop, Suite B, Georgetown, TX 78626 | Jan 25, 2018 | 481079

[FR Doc. 2018-05420 Filed 3-15-18; 8:45 am]

BILLING CODE 9110-12-P